POSTAL SERVICE™

39 CFR Part 20

International Mailing Services: Proposed Price Changes

AGENCY: Postal Service™.

ACTION: Proposed rule; request for comments.

SUMMARY: The Postal Service proposes to revise Mailing Standards of the United States Postal Service, International Mail Manual (IMM®), to reflect changes coincident with the recently announced mailing services price adjustments.

DATES: We must receive your comments on or before May 17, 2023.

ADDRESSES: Mail or deliver comments to the manager, Product Classification, U.S. Postal Service®, 475 L'Enfant Plaza SW, RM 4446, Washington, DC 20260-5015. You may inspect and photocopy all written comments at USPS® Headquarters Library, 475 L'Enfant Plaza SW, 11th Floor N, Washington DC by appointment only between the hours of 9 a.m. and 4 p.m., Monday through Friday by calling 1-202-268-2906 in advance. Email comments, containing the name and address of the commenter, to: PCFederalRegister@usps.gov, with a subject line of “July 9, 2023, International Mailing Services Proposed Price Changes.” Faxed comments are not accepted. All submitted comments and attachments are part of the public record and subject to disclosure. Do not enclose any material in your comments that you consider to be confidential or inappropriate for public disclosure.

FOR FURTHER INFORMATION CONTACT: Dale Kennedy at 202-268-6592 or Kathy Frigo at 202-268-4178.

SUPPLEMENTARY INFORMATION:

International Price and Service Adjustments

On April 10, 2023, the Postal Service filed a notice of mailing services price adjustments with the Postal Regulatory Commission (PRC), effective on July 9, 2023. The Postal Service proposes to revise Notice 123, Price List, available on Postal Explorer® at https://pe.usps.com, to reflect these new price changes. The new prices are or will be available under Docket Number R-2023-2 on the Postal Regulatory Commission's website at www.prc.gov.

This proposed rule describes the price changes for the following market dominant international services:

• First-Class Mail International (FCMI) service

• International extra services and fees

First-Class Mail International

The Postal Service plans to increase prices for single-piece FCMI postcards, letters, and flats by approximately 3.6%. The proposed price for a single-piece postcard will increase to $1.50 worldwide. The First-Class Mail International letter nonmachinable surcharge will remain at $0.40. The proposed FCMI single-piece letter and flat prices will be as follows:

Letters
Weight not over: (oz.) | Price groups: 1 | Price groups: 2 | Price groups: 3-5 | Price groups: 6-9
1 | $1.50 | $1.50 | $1.50 | $1.50
2 | 1.50 | 2.27 | 2.80 | 2.60
3 | 2.15 | 3.00 | 4.10 | 3.69
3.5 | 2.75 | 3.76 | 5.40 | 4.78

Flats
Weight not over: (oz.) | Price groups: 1 | Price groups: 2 | Price groups: 3-5 | Price groups: 6-9
1 | $3.00 | $3.00 | $3.00 | $3.00
2 | 3.29 | 3.90 | 4.23 | 4.17
3 | 3.57 | 4.78 | 5.45 | 5.33
4 | 3.82 | 5.67 | 6.71 | 6.49
5 | 4.10 | 6.56 | 7.93 | 7.65
6 | 4.37 | 7.44 | 9.16 | 8.82
7 | 4.65 | 8.34 | 10.39 | 9.97
8 | 4.92 | 9.22 | 11.61 | 11.13
12 | 6.29 | 11.13 | 14.08 | 13.54
15.994 | 7.65 | 13.05 | 16.54 | 15.93

International Extra Services and Fees

The Postal Service plans to increase prices for certain market dominant international extra services including:

• Certificate of Mailing

• Registered Mail™.

• Return Receipt

• Customs Clearance and Delivery Fee

• International Business Reply™ Mail Service

Certificate of Mailing
| Fee
Individual pieces:
Individual article (PS Form 3817) | $1.95
Duplicate copy of PS Form 3817 or PS Form 3665 (per page) | 1.95
Firm mailing sheet (PS Form 3665), per piece (minimum 3) First-Class Mail International only | 0.57
Bulk quantities: |
For first 1,000 pieces (or fraction thereof) | $10.90
Each additional 1,000 pieces (or fraction thereof) | 1.40
Duplicate copy of PS Form 3606 | 1.95

Registered Mail

Fee: $20.25.

Return Receipt

Fee: $5.65.

Customs Clearance and Delivery

Fee: per piece $8.30.

International Business Reply Service

Fee: Cards $2.10; Envelopes up to 2 ounces $2.65.

Following the completion of Docket No. R2023-2, the Postal Service will adjust the prices for products and services covered by the International Mail Manual. These prices will be on Postal Explorer at pe.usps.com.

Accordingly, although exempt from the notice and comment requirements of the Administrative Procedure Act (5 U.S.C. 553(b), (c)) regarding proposed rulemaking by 39 U.S.C. 410(a), the Postal Service invites public comment on the following proposed changes to Mailing Standards of the United States Postal Service, International Mail Manual (IMM®), set out in this SUPPLEMENTARY INFORMATION section, which is incorporated by reference in the Code of Federal Regulations in accordance with 39 CFR 20.1, and to associated changes to Notice 123, Price List.

The Postal Service will publish an appropriate update to Notice 123, Price List of the IMM, to reflect these changes following the completion of the notice and comment period for this proposed rule. The Postal Service annually publishes an amendment to 39 CFR part 20 to finalize updates to the IMM.

Tram T. Pham,
Attorney, Ethics and Legal Compliance.

[FR Doc. 2023-07977 Filed 4-14-23; 8:45 am]

BILLING CODE 7710-12-P